DEPARTMENT OF HOUSING AND URBAN DEVELOPMENT

[Docket No. FR-4560-C-03]

FY 2000 Super Notice of Funding Availability (SuperNOFA) for HUD's Housing, Community Development and Empowerment Programs and Section 8 Housing Voucher Assistance; Notice of Extension of OTAG Application Due Date; and Clarification of Location for OTAG Application Delivery After 5:00 PM on OTAG Application Due Date

AGENCY: Office of the Secretary, HUD.

ACTION: Super Notice of Funding Availability (SuperNOFA) for HUD Grant Programs; Extension of OTAG Application Due Date and Clarification of OTAG Application Delivery Location.

SUMMARY: On February 24, 2000, HUD published its Fiscal Year (FY) 2000 Super Notice of Funding Availability (SuperNOFA) for HUD's Housing, Community Development, and Empowerment Programs and Section 8 Housing Voucher Assistance. This document extends the due date to apply for funding under the Outreach and Assistance Training Grants (OTAG) to May 31, 2000. This document also clarifies the location at HUD for delivery of OTAG applications after 5:00 pm on the OTAG application due date.

DATES: The Application Due Date for OTAG applications is extended by this notice to May 31, 2000.

FOR FURTHER INFORMATION CONTACT: You may contact Victor Lambert at (202) 708-0001 (ext. 3779). Persons with speech or hearing impairments may call HUD's TTY number (202) 708-0770, or 1-800-877-8399 (the Federal Information Relay Service TTY). Other than the “800” number, these numbers are not toll-free. Mr. Lambert can also be reached via the Internet at victor_r_lambert@HUD.gov. You may also call the SuperNOFA Information Center, which you may reach by calling 1-800-HUD-8929 or the Center's TTY number at 1-800-HUD-2209.

SUPPLEMENTARY INFORMATION: On February 24, 2000 (65 FR 9322), HUD published its Fiscal Year (FY) 2000 Super Notice of Funding Availability (SuperNOFA) for HUD's Housing, Community Development, and Empowerment Programs and Section 8 Housing Voucher Assistance. The FY 2000 SuperNOFA announced the availability of approximately $2.424 billion in HUD program funds covering 39 grant categories within programs operated and administered by HUD offices and Section 8 housing voucher assistance.

This notice extends the OTAG application due date from April 26, 2000, to May 31, 2000. This notice also clarifies the location at HUD for delivery of OTAG applications after 5:00 pm on the OTAG application due date, which is now May 31, 2000. On the OTAG application due date, applications will be accepted until 12:00 midnight, in the South Lobby of HUD Headquarters, 451 Seventh Street, Washington, DC 20410.

The funding availability announcement for OTAG is found at page 9779 of the February 24, 2000 SuperNOFA.

Therefore, in the Super Notice of Funding Availability for Housing, Community Development, and Empowerment Programs and Section 8 Housing Voucher Assistance for Fiscal Year 2000, notice document 00-4123, beginning at 65 FR 9322, in the issue of Friday, February 24, 2000, the following clarification is made:

Outreach and Training Assistance Grants (OTAG) section, beginning at 65 FR 9779.

• On page 9779, in the first column, continuing to the second column, under Section I, the paragraphs concerning “Application Due Date” and “Address for Submitting Applications to HUD Headquarters” is corrected to read as follows:

Application Due Date. Submit your completed applications (one original and two copies) on or before 12:00 midnight, Eastern time, on May 31, 2000, to the address shown below.

See the General Section of this SuperNOFA for specific procedures governing the form of application submission (e.g., mailed applications, express mail, overnight delivery, or hand carried).

Address for Submitting Applications. To HUD Headquarters. Submit your completed application (an original and two copies) to: the Office of Multifamily Housing Assistance Restructuring, Attn: Victor Lambert, 1280 Maryland Avenue, S.W., Suite 4000, Washington, D.C. 20024. When submitting your application, please refer to OTAG, and include your name, mailing address (including zip code) and telephone number (including area code).

After 5:00 pm on the application due date, hand carried applications will be accepted until 12:00 midnight, in the South Lobby of HUD Headquarters, 451 Seventh Street, SW, Washington, DC 20410.

Dated: April 19, 2000.
Deborah Vincent,
Acting Deputy Chief of Staff for Policy.

[FR Doc. 00-10254 Filed 4-20-00; 11:19 am]

BILLING CODE 4210-32-P